ENVIRONMENTAL PROTECTION AGENCY

[FRL-9909-62-ORD; EPA-HQ—ORD-2014-0288]

Notice of Availability of the Framework for Human Health Risk Assessment To Inform Decision Making

AGENCY: Environmental Protection Agency (EPA).

ACTION: Notice of availability.

SUMMARY: The Environmental Protection Agency (EPA) is announcing the release of the Framework for Human Health Risk Assessment to Inform Decision Making. This document was developed by the EPA's Risk Assessment Forum and describes a Framework for conducting human health risk assessments that are responsive to the needs of Agency decision making. The document was developed to provide information to Agency staff and managers, external stakeholders, and the public.

DATES: The document will be available for use by EPA risk assessors and other interested parties on April 15, 2014.

ADDRESSES: The Risk Assessment Forum Framework for Human Health Risk Assessment to Inform Decision Making is available electronically through the EPA Web site at http://www.epa.gov/raf/frameworkhhra.htm.

FOR FURTHER INFORMATION CONTACT: Julie Fitzpatrick, Office of the Science Advisor, Mail Code 8105-R, U.S. Environmental Protection Agency, 1200 Pennsylvania Avenue NW., Washington, DC 20460; telephone number: (202) 564-4212; fax number: (202) 564-2070, Email: fitzpatrick.julie@epa.gov.

SUPPLEMENTARY INFORMATION: EPA has an established history of conducting human health risk assessments to support its decision making. The Framework describes a process for conducting human health risk assessments that is responsive to EPA's decision-making needs. The Framework facilitates implementation of existing and future EPA guidance for conducting human health risk assessments and improves the utility of risk assessment in the decision-making process. The risk assessment design and utility recommendations presented in the National Research Council's report, Science and Decisions: Advancing Risk Assessment, are addressed throughout the Framework. Specifically, the Framework incorporates the recommendations that the EPA formalize and implement planning and scoping, and problem formulation in the risk assessment process as well as adopt a framework for informing decisions.

The Framework highlights the important roles of planning and scoping as well as problem formulation in designing a risk assessment that will serve a specific purpose. In accordance with longstanding EPA policy, it also emphasizes the importance of scientific review and public involvement. The Framework presents the concept of “fit for purpose” to address to the development of risk assessments and associated products that are suitable and useful for informing decisions. EPA expects that this Framework will enhance the agency's emphasis on the importance of transparency of the human health risk assessment and decision making.

This document is not intended to supersede existing agency guidance; rather by citing and discussing existing guidance in the context of the Framework it is intended to foster increased implementation of agency guidance.

Dated: April 8, 2014.
Glenn Paulson,
Science Advisor.

[FR Doc. 2014-08489 Filed 4-14-14; 8:45 am]

BILLING CODE 6560-50-P